DEPARTMENT OF ENERGY

Federal Energy Regulatory Commission

Combined Notice of Filings

March 4, 2009.

Take notice that the Commission has received the following Natural Gas Pipeline Rate and Refund Report filings:

Docket Numbers: RP06-540-007.

Applicants: High Island Offshore System, L.L.C.

Description: Second annual report of non-routine expenditures pursuant to its O&M Agreement for calendar year 2008 of High Island Offshore System, L.L.C.

Filed Date: 03/02/2009.

Accession Number: 20090302-5186.

Comment Date: 5 p.m. Eastern Time on Monday, March 16, 2009.

Docket Numbers: RP09-400-000.

Applicants: Cheniere Creole Trail Pipeline, L.P.

Description: Cheniere Creole Trail Pipeline, LP submits FERC Gas Tariff, Original Volume No. 1.

Filed Date: 02/27/2009.

Accession Number: 20090302-0425.

Comment Date: 5 p.m. Eastern Time on Wednesday, March 11, 2009.

Docket Numbers: RP09-401-000.

Applicants: Williston Basin Interstate Pipeline Co.

Description: Williston Basin Interstate Pipeline Co. submits its Annual Fuel and Electric Power Reimbursement Adjustment.

Filed Date: 02/27/2009.

Accession Number: 20090302-0424.

Comment Date: 5 p.m. Eastern Time on Wednesday, March 11, 2009.

Docket Numbers: RP09-402-000.

Applicants: Transcontinental Gas Pipe Line Company.

Description: Transcontinental Gas Pipe Line Co, LLC submits First Revised Sheet No. 28 et al. to FERC Gas Tariff, Fourth Revised Volume No. 1.

Filed Date: 02/27/2009.

Accession Number: 20090302-0426.

Comment Date: 5 p.m. Eastern Time on Wednesday, March 11, 2009.

Docket Numbers: RP09-403-000.

Applicants: Florida Gas Transmission Company, LLC.

Description: Florida Gas Transmission Company, LLC submits Fifteenth Revised Sheet No. 7 et al. to FERC Gas Tariff, Fourth Revised Volume No. 1.

Filed Date: 02/27/2009.

Accession Number: 20090302-0423.

Comment Date: 5 p.m. Eastern Time on Wednesday, March 11, 2009.

Docket Numbers: RP09-404-000.

Applicants: Equitrans, L.P., Description: Equitrans, LP submits Twenty Third Revised Sheet No. 5 et al. to FERC Gas Tariff, Original Volume No. 1.

Filed Date: 02/27/2009.

Accession Number: 20090302-0422.

Comment Date: 5 p.m. Eastern Time on Wednesday, March 11, 2009.

Docket Numbers: RP09-405-000.

Applicants: Texas Gas Transmission, LLC.

Description: Texas Gas Transmission, LLC submits Second Revised Sheet No. 36 et al. to FERC Gas Tariff, Third Revised Volume No. 1.

Filed Date: 02/27/2009.

Accession Number: 20090302-0421.

Comment Date: 5 p.m. Eastern Time on Wednesday, March 11, 2009.

Docket Numbers: RP09-407-000.

Applicants: KO Transmission Company.

Description: KO Transmission Co submits Twenty-fifth Revised Sheet No. 10 to FERC Gas Tariff, Original Volume No. 1.

Filed Date: 02/27/2009.

Accession Number: 20090302-0416.

Comment Date: 5 p.m. Eastern Time on Wednesday, March 11, 2009.

Docket Numbers: RP09-408-000.

Applicants: Dominion Cove Point LNG, LP,

Description: Dominion Cove Point LNG, LP submits Twelfth Revised Sheet No. 11 et al. to FERC Gas Tariff, Original Volume No. 1.

Filed Date: 02/27/2009.

Accession Number: 20090302-0417.

Comment Date: 5 p.m. Eastern Time on Wednesday, March 11, 2009.

Docket Numbers: RP09-411-000.

Applicants: Energy West Development, Inc.

Description: Energy West Development, Inc submits a report relating to its L&U Percentage, Inc for the period commencing 4/1/09.

Filed Date: 02/27/2009.

Accession Number: 20090302-0420.

Comment Date: 5 p.m. Eastern Time on Wednesday, March 11, 2009.

Docket Numbers: RP09-423-000.

Applicants: Columbia Gulf Transmission Company.

Description: Columbia Gulf Transmission Company submits Forty Eighth Revised Sheet No. 18 et al. to FERC Gas Tariff, Second Revised Volume No 1.

Filed Date: 02/27/2009.

Accession Number: 20090303-0199.

Comment Date: 5 p.m. Eastern Time on Wednesday, March 11, 2009.

Docket Numbers: RP09-424-000.

Applicants: National Fuel Gas Supply Corporation.

Description: National Fuel Gas Supply Corporation submits One hundred Twenty Fifth Revised Sheet No. 9 to its FERC Gas Tariff fourth Revised Volume No 1.

Filed Date: 02/27/2009.

Accession Number: 20090303-0198.

Comment Date: 5 p.m. Eastern Time on Wednesday, March 11, 2009.

Docket Numbers: RP09-425-000.

Applicants: Dominion Transmission, Inc.

Description: Dominion Transmission, Inc submits First Revised Sheet No. 41 to FERC Gas Tariff, Third Revised Volume No 1.

Filed Date: 02/27/2009.

Accession Number: 20090303-0197.

Comment Date: 5 p.m. Eastern Time on Wednesday, March 11, 2009.

Docket Numbers: RP09-426-000.

Applicants: Egan Hub Storage, LLC.

Description: Egan Hub Storage, LLC submits Second Revised Sheet No 17 et al. to FERC Gas Tariff, First Revised Volume No 1.

Filed Date: 03/02/2009.

Accession Number: 20090303-0200.

Comment Date: 5 p.m. Eastern Time on Monday, March 16, 2009.

Docket Numbers: RP09-428-000.

Applicants: ANR Pipeline Company.

Description: ANR Pipeline Company submits First Revised Sheet 10A et al. to FERC Gas Tariff, Second Revised Volume 1, to be effective 4/1/09.

Filed Date: 02/27/2009.

Accession Number: 20090303-0252.

Comment Date: 5 p.m. Eastern Time on Wednesday, March 11, 2009.

Docket Numbers: RP09-430-000.

Applicants: Empire Pipeline, Inc.

Description: Annual Report of Empire Pipeline, Inc. pursuant to Section 23.5 of its FERC Gas Tariff re: Compressor Fuel Factors and Other Gas for Transporter's use.

Filed Date: 03/02/2009.

Accession Number: 20090302-5202.

Comment Date: 5 p.m. Eastern Time on Monday, March 16, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-5147 Filed 3-10-09; 8:45 am]

BILLING CODE 6717-01-P